FEDERAL MINE SAFETY AND HEALTH REVIEW COMMISSION

[BAC 6735-01]

Sunshine Act Meeting

December 29, 2016.

TIME AND DATE: 10:00 a.m., Thursday, February 2, 2017.

PLACE: The Richard V. Backley Hearing Room, Room 511N, 1331 Pennsylvania Avenue NW., Washington, DC 20004 (enter from F Street entrance).

STATUS: Open.

MATTERS TO BE CONSIDERED: The Commission will hear oral argument in the matter Secretary of Labor on behalf of Greathouse, et al. v. Monongalia County Coal Company, et al., Docket Nos. WEVA 2015-904-D, et al. (Issues include whether the Judge erred in ruling that certain bonus plans instituted by the operators interfered with miners' rights under the Mine Act.)

Any person attending this oral argument who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD Relay/1-800-877-8339 for toll free.

PHONE NUMBER FOR LISTENING TO ARGUMENT: 1 (866) 867-4769; Passcode: 129-339.

Sarah L. Stewart,
Deputy General Counsel.

[FR Doc. 2016-31878 Filed 12-29-16; 11:15 am]

BILLING CODE 6735-01-P